DEPARTMENT OF THE INTERIOR

National Park Service

National Register of Historic Places; Notification of Pending Nominations and Related Actions

Nominations for the following properties being considered for listing or related actions in the National Register were received by the National Park Service before November 5, 2005. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by December 23, 2005.

John W. Roberts,
Acting Chief, National Register/National Historic Landmarks Program.

California

Los Angeles County

Sears, Roebuck & Company Mail Order Building, 2650 E. Olympic Blvd., Los Angeles, 05001407

Montana

Cascade County

Russell, Charlie and Nancy, Homenymoon Cabin, 20 Russell Dr. S, Cascade, 05001408

North Carolina

Avery County

Elk Park School, 253 Elk Park School Rd., Elk Park, 05001410

Buncombe County

Sunset Terrace Historic District, 9-48 Sunset Terrace, Asheville, 05001411

Catawba County

Hickory Southwest Downtown historic District, (Hickory MRA), Portions of Government Ave. SE Second Street Place SE, First Ave. SW and Third St. SW, Hickory, 05001409

Edgecombe County

Bracebridge Hall (Boundary Increase), 7714 Colonial Rd., both sides of Colonial Rd. at jct with Carr Farm Rd., Macclesfield, 05001412

Forsyth County

Shultz, Christian Thomas, House, 3960 Walnut Hills Dr., Winston-Salem, 05001413

Haywood County

Waynesville Main Street Historic District, Roughly bounded by Depot St., Church and E. Sts, Wall St., and Montgomery St., Waynesville, 05001414

Henderson County

Camp Arrowhead, Cabin Creek Rd., 1 mi. W of jct. with Green River Rd., Tuxedo, 05001415

Lincoln County

Lincolnton Commercial Historic District, Roughly bounded by Pine St., Poplar St., Church St. and W. Court Square, Lincolnton, 05001419

Oklahoma

Grady County

Verden Separate School, 315 E. Ada Sipuel Ave., Chickasha, 05001416

Jackson County

Baker, W. C., House, 301 E. Commerce, Altus, 05001417

Muskogee County

Kendall Place Historic District, Roughly bounded by W. Okmulgee St., S. 11th St., Elgin St., alley N of Columbus St., S. 14th and S. 16th Sts., Muskogee, 05001418

Oregon

Lane County

Peterson Apartments, (Residential Architecture of Eugene, Oregon MPS), 1263 Oak St., Eugene, 05001420

Vermont

Addison County

House at 215 School St., 215 School St., Shoreham, 05001423

Chittenden County

Ruggles, Lucy, House, 262 S. Prospect St., Burlington, 05001421

Washington County

National Clothespin Factory, One Granite St., Montpelier, 05001422

Wisconsin

Ashland County

Copper Falls State Park, WI 169, 1.8 mi. NE of Mellen, Morse, 05001425

Winston—Cadotte Site, Address Restricted, La Pointe, 05001424

[FR Doc. E5-7023 Filed 12-7-05; 8:45 am]

BILLING CODE 4310-70-P